ENVIRONMENTAL PROTECTION AGENCY

[ER-FRL-6674-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20050548, ERP No. D-NPS-E65078-NC, North Shore Road, Great Smoky Mountains National Park, General Management Plan, Implementation, Fontana Dam, Swain County, NC.

Summary: EPA expressed environmental concerns about the potential for adverse impacts to water and air quality. In particular, acid generation from highly mineralized rock which has the potential to produce acid drainage impacting wetlands and aquatic life.

Rating EC1.

EIS No. 20060022, ERP No. D-FTA-L40230-WA, South Valley Corridor Project, Improvement to Existing Urban Transportation System, Light Rail Transit (LRT), Right-of-Way Grant, City of Liberty Lake, Spokane County, WA.

Summary: EPA has no objections to the proposed project.

Rating LO.

EIS No. 20060063, ERP No. D-FHW-K40259-CA, Big Bear Lake Bridge Replacement Project, near Big Bear Lake on CA-18 from Kilopost 71.1/71.9, Realignment and Widening Roadways, U.S. COE section 404 Permit, Funding, San Bernardino National Forest, San Bernardino County, CA.

Summary: EPA has no objections to the proposed project.

Rating LO.

EIS No. 20060064, ERP No. D-AFS-D65035-PA, Williow Creek All-Terrain Vehicle Trail Expansion, Improvements, located in Marshburg/Stickney Intensive Use Area, Alleghany National Forest, McKean County, PA.

Summary: EPA has environmental concerns about impacts to air quality, wetlands, terrestrial habitat, historic resources, public health and safety, and suggested clarification of “forest level” air emissions as well as injury/death statistics pertinent to Allegheny NF. The final EIS should include specific information on wetland location, delineation and location of impacted terrestrial habitat resources.

Rating EC2.

EIS No. 20060073, ERP No. D-NRS-G31004-AR, Little Red River Irrigation Project, Develop a Water Management Plan for Irrigation Purposes in Seary, U.S. Army COE section 404 Permit, Raft Creek, White County, AR.

Summary: EPA does not object to the proposed action.

Rating LO.

EIS No. 20060055, ERP No. DS-AFS-J65438-WY, Dean Project Area, Proposes to Implement Multiple Resource Management Actions, New Information to Disclose Direct, Indirect, and Cumulative Environmental Impacts, Black Hills National Forest, Bearlodge Ranger District, Sundance, Crook County, WY.

Summary: The Supplemental EIS did not address EPA's environmental concerns about impacts to water quality from timber harvest, runoff, soil erosion and sediment losses and cumulative impacts to vegetation and wildlife habitat from other large-scale vegetation management projects.

Rating EC2.

Final EISs

EIS No. 20050429, ERP No. F-BLM-J02046-UT, Castle Peak and Eightmile Flat Oil and Gas Expansion Project, Expansion of Crude Oil and Natural Gas Development and Production Programs, Right-of-Way Grant, Duchesne and Uintah Counties, UT.

Summary: The approved action has deferred drilling near riparian areas until needed information from an ongoing survey is collected. EPA continues to express environmental concerns about the potential for adverse impacts to regional visibility and the adequacy of proposed mitigation based on the results of analysis in the EIS indicating adverse long term and cumulative air impacts from the project.

EIS No. 20060043, ERP No. F-AFS-J65443-CO, Rock Creek Integrated Management Project, Propose Treatment to Address Mountain Beetle Epidemics, and to Reduce Wildfires within the Rock Creek Analysis Area, Medicine Bow-Routt National Forests and Thunder Basin National Grassland, Glenwood Springs Resource Area, Routt and Grand Counties, CO.

Summary: The Final EIS addressed EPA's concerns with specific treatments, applications and priorities under the HFA. Other comments were not addressed, and EPA continues to express environmental concerns about potential impacts to water quality from construction of up to 25 miles of road in an area with existing watershed impacts.

EIS No. 20060078, ERP No. F-NOA-G90016-TX, PROGRAMMATIC—Texas National Estuarine Research Reserve and Management Plan, Mission-Aransas Estuary, Site Designation, Federal Approval, TX.

Summary: No formal comment letter was sent to the preparing agency.

EIS No. 20060080, ERP No. F-AFS-L65476-WA, Methow Transmission Project, Construction of New Transmission Line or Reconstruction an Existing Line, Okanogan and Wenatchee National Forests, Methow Valley Ranger District, Okanogan County, WA.

Summary: EPA continues to express environmental concerns about potential impacts to habitat, resulting from construction of a new substation in the Gold Creek area.

Dated: April 25, 2006.
Robert W. Hargrove,
Director, NEPA Compliance Division, Office of Federal Activities.

[FR Doc. E6-6430 Filed 4-27-06; 8:45 am]

BILLING CODE 6560-50-P